NATIONAL ARCHIVES AND RECORDS ADMINISTRATION

Advisory Committee on Preservation; Meeting

AGENCY: National Archives and Records Administration.

ACTION: Notice of meeting.

SUMMARY: In accordance with the Federal Advisory Committee Act (5 U.S.C. App. 2) and implementing regulation 41 CFR 101.6, the National Archives and Records Administration (NARA) announces a meeting of the Advisory Committee on Preservation. NARA uses the Committee's recommendations on NARA's implementation of strategies for preserving the permanently valuable records of the Federal Government.

DATES: September 21, 2000, from 9 a.m. to 4 p.m.

ADDRESSES: National Archives and Records Administration, 8601 Adelphi Road, lecture rooms C & D, College Park, MD 20740-6001.

FOR FURTHER INFORMATION CONTACT: Alan Calmes, Preservation Officer, 301-713-7403.

SUPPLEMENTARY INFORMATION: The agenda for the meeting will be Options for Recovering Human Speech from Erased AudioTape: A Technical Discussion.

1. Current condition and history of examinations of the original tape.

2. Evaluation of new technologies for recovering human speech through non-destructive examination.

3. Feasibility of recovering human speech from the erased tape.

4. Recommendations regarding further examinations.

This meeting will be open to the public, but seating may be limited.

Dated: August 3, 2000.
Mary Ann Hadyka,
Committee Management Officer.

[FR Doc. 00-20401 Filed 8-10-00; 8:45 am]

BILLING CODE 7515-01-P